DEPARTMENT OF COMMERCE

[Docket No.: 180928902-8902-01

Commerce Alternative Personnel System

AGENCY: Office of Administration, Office of Human Resources Management, Department of Commerce.

ACTION: Notice.

SUMMARY: This notice announces the expansion of employee coverage under the Commerce Alternative Personnel System (CAPS), formerly the Department of Commerce Personnel Management Demonstration Project, published in the Federal Register on December 24, 1997. This coverage is extended to include employees of the National Oceanic and Atmospheric Administration (NOAA), Office of Atmospheric Research (OAR) located in the Earth Systems Research Laboratory, the Great Lakes Environmental Research Laboratory, and the Pacific Marine Environmental Research Laboratory. This notice also serves to modify the plan to add the Investigative Analysis Series, 1805 to the Administrative (ZA) career path.

DATES: The amended Commerce Alternative Personnel System is effective October 31, 2018.

FOR FURTHER INFORMATION CONTACT: Department of Commerce—Sandra Thompson, U.S. Department of Commerce, 1401 Constitution Avenue NW, Room 51020, Washington, DC 20230, (202) 482-0056 or Valerie Smith at (202) 482-0272.

SUPPLEMENTARY INFORMATION:

1. Background

The Office of Personnel Management (OPM) approved the Department of Commerce (DoC) demonstration project for an alternative personnel management system, and published the final plan in the Federal Register on Wednesday, December 24, 1997 (62 FR 67434). The demonstration project was designed to simplify current classification systems for greater flexibility in classifying work and paying employees; establish a performance management and rewards system for improving individual and organizational performance; and improve recruiting and examining to attract highly-qualified candidates. The purpose of the project was to strengthen the contribution of human resources management and test whether the same innovations conducted under the National Institute of Standards and Technology alternative personnel management system would produce similarly successful results in other DoC environments. The project was implemented on March 29, 1998. The project plan has been modified twelve times to clarify certain DoC Demonstration Project authorities, and to extend and expand the project: 64 FR 52810 (September 30, 1999); 68 FR 47948 (August 12, 2003); 68 FR 54505 (September 17, 2003); 70 FR 38732 (July 5, 2005); 71 FR 25615 (May 1, 2006); 71 FR 50950 (August 28, 2006); 74 FR 22728 (May 14, 2009); 80 FR 25 (January 2, 2015); 81 FR 20322 (April 7, 2016); 81 FR 40653 (June 22, 2016); 81 FR 54787 (August 17, 2016); and 82 FR 1688 (January 6, 2017). With the passage of the Consolidated Appropriations Act, 2008, Public Law 110-161, on December 26, 2007, the project was made permanent (extended indefinitely) and renamed the Commerce Alternative Personnel System (CAPS).

CAPS provides for modifications to be made as experience is gained, results are analyzed, and conclusions are reached on how the system is working. This notice announces that the DoC expands CAPS to include additional bargaining unit and non-bargaining unit employees in the OAR, located in the Earth Systems Research Laboratory (ESRL), the Great Lakes Environmental Research Laboratory (GLERL), and the Pacific Marine Environmental Research Laboratory (PMEL); and adds the Investigative Analysis Series, 1805 to the Administrative (ZA) career path.

The DoC will follow the CAPS plan as published in the Federal Register on December 24, 1997, and subsequent modifications as listed in the Background Section of this notice.

Kevin E. Mahoney,
Director for Human Resources Management and Chief Human Capital Officer.

Table of Contents

I. Executive Summary

II. Basis for CAPS Expansion

III. Changes to the Project Plan

I. Executive Summary

CAPS is designed to (1) improve hiring and allow DoC to compete more effectively for high-quality candidates through direct hiring, selective use of higher entry salaries, and selective use of recruitment incentives; (2) motivate and retain staff through higher pay potential, pay-for-performance, more responsive personnel systems, and selective use of retention incentives; (3) strengthen the manager's role in personnel management through delegation of personnel authorities; and (4) increase the efficiency of personnel systems through the installation of a simpler and more flexible classification system based on pay banding through reduction of guidelines, steps, and paperwork in classification, hiring, and other personnel systems, and through automation.

The current participating organizations include 1 office of the Deputy Secretary in the Office of the Secretary, 6 offices of the Chief Financial Officer/Assistant Secretary for Administration in the Office of the Secretary; the Bureau of Economic Analysis; 2 units of the National Telecommunications and Information Administration (NTIA): the Institute for Telecommunication Sciences and the First Responder Network Authority (an independent authority within NTIA); and 12 units of the National Oceanic and Atmospheric Administration: Office of Oceanic and Atmospheric Research, National Marine Fisheries Service, the National Environmental Satellite, Data, and Information Service, National Weather Service—Space Environment Center, National Ocean Service, Program Planning and Integration Office, Office of the Under Secretary, Marine and Aviation Operations, Office of the Chief Administrative Officer, Office of the Chief Financial Officer, the Workforce Management Office, and the Office of the Chief Information Officer.

This amendment modifies the December 24, 1997, Federal Register notice. Specifically, it expands DoC CAPS to include additional OAR bargaining unit and non-bargaining unit employees located in the ESRL, GLERL, and the PMEL; and adds the Investigative Analysis Series, 1805 to the Administrative (ZA) career path

II. Basis for CAPS Expansion

A. Purpose

CAPS is designed to provide supervisors/managers at the lowest organizational level the authority, control, and flexibility to recruit, retain, develop, recognize, and motivate its workforce, while ensuring adequate accountability and oversight.

OAR is the primary research and development organization within NOAA. OAR research results allow decision makers to make effective judgements in order to prevent the loss of human life and conserve and manage natural resources while maintaining a strong economy. OAR conducts research programs in coastal, marine, atmospheric, and space sciences through its own laboratories and offices, as well as through networks of university-based programs. The work consists of research, modeling, and environmental observations relating to weather and air quality, climate, and ocean and coastal resources. Since the inception of the demonstration project in 1997, and subsequent modification/expansion notices, units of OAR have participated in CAPS, with the exception of the GLERL, and the PMEL. In October 2005, the ESRL was formed, which absorbed the following former demonstration project covered units: Aeronomy Laboratory, Air Resources Laboratory—Surface Radiation Research Branch, Climate Diagnostics Center, Climate Monitoring and Diagnostics Laboratory, Environmental Technology Laboratory, and the Forecast Systems Laboratory. Subsequent reorganizations have occurred within OAR, resulting in the alignment of additional bargaining and non-bargaining unit General Schedule (GS) employees under ESRL. With the majority of ESRL employees being covered by an alternative personnel management system, a determination was made to have one uniform pay system and to convert the remaining GS ESRL workforce under CAPS.

The expansion of CAPS coverage to include the remaining OAR laboratories and the bargaining unit and non-bargaining unit GS employees of ESRL will allow OAR to continue to benefit from the flexibilities provided by CAPS and should improve the organization's ability to recruit and retain a high-quality workforce by offering one uniform pay system throughout OAR.

DoC's CAPS allows for modifications of procedures if no new waiver from law or regulation is added. Given that this expansion and modification is in accordance with existing law and regulation and CAPS is a permanent alternative personnel system, the DoC is authorized to make the changes described in this notice.

B. Participating Employees

Employee notification of this expansion will be accomplished by providing a full set of briefings to employees and managers and providing them electronic access to all CAPS policies and procedures, including the twelve previous Federal Register Notices. A copy of this Federal Register notice will also be accessible electronically upon approval. Subsequent supervisor training and informational briefings for all employees will be accomplished prior to the implementation date of the expansion.

C. Labor Participation

Labor organizations were notified about the CAPS expansion pertaining to their bargaining unit membership. Bargaining-unit employees are covered by AFGE Local 2186, Boulder, Colorado, and AFGE Local 3908, Ann Arbor, Michigan.

III. Changes to the Project Plan

The CAPS at DoC, published in the Federal Register on December 24, 1997 (62 FR 67434), is amended as follows:

1. The following organization will be added to the project plan, Section II D—Participating Organizations

Within the National Oceanic and Atmospheric Administration (NOAA),

Office of Oceanic and Atmospheric Research, (OAR),

Great Lakes Environmental Research Laboratory (GLERL)

Pacific Marine Environmental Research Laboratory (PMEL)

Additional employees in the following:

Earth Science Research Laboratory (ESRL)

2. The following bargaining units are added to the project plan, Section II F—Labor Participation Table 4—Bargaining Unit Coverage.

ESRL . . . Boulder, CO AFGE Local 2186

GLERL . . . Ann Arbor, MI AFGE Local 3908

3. The following series is added to the project plan, Section II E. Participating Employees—Table 2.—Occupational Series by Career Path

Administrative (ZA) career path, 1805, Investigative Analysis

[FR Doc. 2018-23832 Filed 10-30-18; 8:45 am]

BILLING CODE 3510-EA-P